FEDERAL COMMUNICATIONS COMMISSION

[OMB 3060-0057; FRS 16595]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written PRA comments should be submitted on or before June 1, 2020. If you anticipate that you will be submitting comments, but find it difficult to do so within the period of time allowed by this notice, you should advise the contact listed below as soon as possible.

ADDRESSES: Direct all PRA comments to Nicole Ongele, FCC, via email PRA@fcc.gov and to Nicole.ongele@fcc.gov.

FOR FURTHER INFORMATION CONTACT: For additional information about the information collection, contact Nicole Ongele, (202) 418-2991.

SUPPLEMENTARY INFORMATION:

OMB Control Number: 3060-0057

Title: Application for Equipment Authorization, FCC Form 731

Form Number: FCC 731

Type of Review: Revision of a currently approved collection.

Respondents: Business or other for-profit.

Number of Respondents and Responses: 11,305 respondents; 24,873 responses.

Estimated Time per Response: 8.11 hours (rounded).

Frequency of Response: On occasion reporting requirement and third-party disclosure requirement.

Obligation to Respond: Required to obtain or retain benefits. Statutory authority for this information collection is contained in the 47 U.S.C. 154(i), 301, 302, 303(e), 303(f) and 303(r).

Total Annual Burden: 201,603 hours.

Total Annual Costs: $50,155,140.

Privacy Act Impact Assessment: Yes. The personally identifiable information (PII) in this information collection is covered by a Privacy Impact Assessment (PIA), Equipment Authorizations Records and Files Information System. It is posted at: https://www.fcc.gov/general/privacy-act-information#pia.

Nature and Extent of Confidentiality: Minimal exemption from the Freedom of Information Act (FOIA) under 5 U.S.C. 552(b)(4) and FCC rules under 47 CFR 0.457(d) is granted for trade secrets which may be submitted as attachments to the application FCC Form 731. No other assurances of confidentiality are provided to respondents.

Needs and Uses: The Commission will submit this revised information collection to the Office of Management and Budget (OMB) after this 60-day comment period to obtain the three-year clearance. The Commission is reporting program changes, increases to this information collection.

As the Commission notes above, the total number of respondents, total number of responses annually, the total annual hourly burden, and the total annual costs have been updated because of the continuing growth in applications for Certification, streamlining of the application information and combining of different information collection requests. With operations in the new frequencies formed under Section 15.258 the burden hours for the applicants have increased from 201,450 hours to 201,603. However, the additional Applications that will be filed per the frequencies will become the total burden hours for applicants to $50,155,140 from $50,110,000.

On March 15, 2019, the Commission adopted a First Report and Order, in ET Docket No. 18-2; FCC 19-19, which involves updates to 47 CFR part 15,—“Radio Frequency Devices,” to provide permit certain operations above 95 GHz.¹ Among other things, the Spectrum Horizons Order made specific frequencies above 95 GHz available for the operation of radiofrequency devices without a license. Such devices are subject to the certification process of the Commission's equipment authorization program. Accordingly, 47 CFR was amended to include a new Section 15.258 as follows:

¹Spectrum Horizons, First Report and Order, 34 FCC Rcd 1605(2) (2019) (Spectrum Horizons Order).

§ 15.258 Operation in the bands 116-123 GHz, 174.8-182 GHz, 185-190 GHz and 244-246 GHz.

(a) Operation on board an aircraft or a satellite is prohibited.

(b) Emission levels within the 116-123 GHz, 174.8-182 GHz, 185-190 GHz and 244-246 GHz bands shall not exceed the following equivalent isotropically radiated power (EIRP) limits as measured during the transmit interval:

(1) The average power of any emission shall not exceed 40 dBm and the peak power of any emission shall not exceed 43 dBm; or

(2) For fixed point-to-point transmitters located outdoors, the average power of any emission shall not exceed 82 dBm and shall be reduced by 2 dB for every dB that the antenna gain is less than 51 dBi. The peak power of any emission shall not exceed 85 dBm and shall be reduced by 2 dB for every dB that the antenna gain is less than 51 dBi. The provisions in this paragraph for reducing transmit power based on antenna gain shall not require that the power levels be reduced below the limits specified in paragraph (b)(1) of this section.

(3) The peak power shall be measured with a detection bandwidth that encompasses the entire occupied bandwidth within the intended band of operation, e.g., 116-123 GHz, 174.8-182 GHz, 185-190 GHz or 244-246 GHz. The average emission levels shall be measured over the actual time period during which transmission occurs.

(4) Transmitters with an emission bandwidth of less than 100 MHz must limit their peak radiated power to the product of the maximum permissible radiated power (in milliwatts) times their emission bandwidth divided by 100 MHz. For the purposes of this paragraph, emission bandwidth is defined as the instantaneous frequency range occupied by a steady state radiated signal with modulation, outside which the radiated power spectral density never exceeds 6 dB below the maximum radiated power spectral density in the band, as measured with a 100 kHz resolution bandwidth spectrum analyzer. The center frequency must be stationary during the measurement interval, even if not stationary during normal operation (e.g., for frequency hopping devices).

(c) Limits on spurious emissions:

(1) The power density of any emissions outside the band of operation, e.g., 116-123 GHz, 174.8-182 GHz, 185-190 GHz or 244-246 GHz, shall consist solely of spurious emissions.

(2) Radiated emissions below 40 GHz shall not exceed the general limits in § 15.209.

(3) Between 40 GHz and the highest frequency specified in § 15.33, the level of these emissions shall not exceed 90 pW/cm² at a distance of 3 meters.

(4) The levels of the spurious emissions shall not exceed the level of the fundamental emission.

(d) Frequency stability. Fundamental emissions must be contained within the frequency bands specified in this section during all conditions of operation. Equipment is presumed to operate over the temperature range −20 to + 50 degrees Celsius with an input voltage variation of 85% to 115% of rated input voltage, unless justification is presented to demonstrate otherwise.

(e) Regardless of the power density levels permitted under this section, devices operating under the provisions of this section are subject to the radiofrequency radiation exposure requirements specified in §§ 1.1307(b), 2.1091 and 2.1093 of this chapter, as appropriate. Applications for equipment authorization of devices operating under this section must contain a statement confirming compliance with these requirements for both fundamental emissions and unwanted emissions. Technical information showing the basis for this statement must be submitted to the Commission upon request.

(f) Any transmitter that has received the necessary FCC equipment authorization under the rules of this chapter may be mounted in a group installation for simultaneous operation with one or more other transmitter(s) that have received the necessary FCC equipment authorization, without any additional equipment authorization. However, no transmitter operating under the provisions of this section may be equipped with external phase-locking inputs that permit beam-forming arrays to be realized.

(g) Measurement procedures that have been found to be acceptable to the Commission in accordance with § 2.947 of this chapter may be used to demonstrate compliance.

Federal Communications Commission.
Cecilia Sigmund,
Federal Register Liaison Officer, Office of the Secretary.

[FR Doc. 2020-06593 Filed 3-30-20; 8:45 am]

BILLING CODE 6712-01-P